DEPARTMENT OF HEALTH AND HUMAN SERVICES

Determination Concerning a Petition To Add a Class of Employees to the Special Exposure Cohort

AGENCY: National Institute for Occupational Safety and Health (NIOSH), Centers for Disease Control and Prevention, Department of Health and Human Services (HHS).

ACTION: Notice.

SUMMARY: HHS gives notice of a determination concerning a petition to add a class of employees from the Joslyn Manufacturing Company in Fort Wayne, Indiana, to the Special Exposure Cohort (SEC) under the Energy Employees Occupational Illness Compensation Program Act of 2000 (EEOICPA).

FOR FURTHER INFORMATION CONTACT: Stuart L. Hinnefeld, Director, Division of Compensation Analysis and Support, National Institute for Occupational Safety and Health (NIOSH), 1090 Tusculum Avenue, MS C-47, Cincinnati, OH 45226-1938, Telephone 1-877-222-7570. Information requests can also be submitted by email to DCAS@CDC.GOV.

SUPPLEMENTARY INFORMATION:

Authority: 42 U.S.C.7384q.

On August 22, 2014, the Secretary of HHS determined that the following class of employees does not meet the statutory criteria for addition to the SEC as authorized under EEOICPA:

All Atomic Weapons Employees who worked for Joslyn Manufacturing and Supply Co. at the covered facility in Fort Wayne, Indiana, from August 1, 1948, through December 31, 1952.

John Howard,
Director, National Institute for Occupational Safety and Health.

[FR Doc. 2014-21762 Filed 9-11-14; 8:45 am]

BILLING CODE 4163-19-P